DEPARTMENT OF HEALTH AND HUMAN SERVICES

Administration for Children and Families

Proposed Information Collection Activity; Comment Request

Proposed Projects

Title: AFI Financial Education Practices and Cost Study.

OMB No.: New collection.

Description: The Office of Community Services (OCS) within the Administration for Children and Families is conducting a descriptive study of Financial Education Practices among Assets for Independence (AFI) grantees to increase its knowledge about current practices in financial education for AFI participants and the costs involved to provide the financial education.

The Assets for Independence program is a national demonstration through which OCS awards grants to community-based nonprofit organizations, and State, local, and tribal government agencies nationwide. The AFI program is authorized in Section 402 of the Community Opportunities, Accountability, and Training and Educational Services Act of 1998 (Title IV of Pub. L. 105-285). Grantees implement five year projects that empower low-income families and individuals to save earned income and purchase an economic asset as a means for becoming economically self-sufficient. Grantees provide eligible low-income individuals and families access to matched savings accounts, known as individual development accounts (IDAs). In addition, grantees provide asset-building services to program participants, such as financial literacy education, and specialized asset-specific training regarding asset purchase and ownership.

This data collection effort will provide OCS with a better understanding of the future needs of AFI grantees in financial education and help OCS to build strategies to strengthen the quality of the financial education provided to AFI participants. The data collection will be collected once through two instruments: The Survey of Financial Education Practices of AFI Grantees and the AFI Financial Education Cost Data Form.

The Survey of Financial Education Practices of AFI Grantees will be a Web-based survey consisting mainly of multiple choice questions. All current AFI grantees (approximately 300 grantees) will be asked to complete the survey. The AFI Financial Education Cost Data Form is a supplement to the grantee practices survey. A smaller sample of grantees (approximately 35 grantees) representing a variety of organizational types will be randomly selected to complete this supplemental survey on the costs of providing financial education. The Cost Data Form will be sent to grantees to complete and technical assistance will be provided to grantees to help them complete the form.

Specific areas to be covered in this study include: Topics covered by financial education; formats used in delivering financial education; assessment tools that are used to determine participant needs and effectiveness of training efforts; challenges encountered in providing financial education; training materials used; costs and sources of funding for training; strategies for tracking participant progress in developing financial skills; and participant outcomes related to financial education.

Respondents: 292 AFI grantee agencies, their partners or sub-grantees, 72 AFI grantee agencies, their partners or sub-grantees' financial personnel.

Annual Burden Estimates
Instrument | Number of respondents | Number of responses per respondent | Average burden hours per response | Total burden hours
AFI Grantee Agencies and Partners | 292 | 1 | 1 | 292
AFI Grantee Agencies, Partners and Financial Personnel | 72 | 1 | 2 | 144

Estimated Total Annual Burden Hours: 436.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2011-3803 Filed 2-18-11; 8:45 am]

BILLING CODE 4184-01-P